ENVIRONMENTAL PROTECTION AGENCY

40 CFR Part 52

[R05-OAR-2004-OH-0004; FRL-7923-5]

Approval and Promulgation of Implementation Plans; Ohio New Source Review Rules

AGENCY: Environmental Protection Agency (EPA).

ACTION: Proposed rule; extension of public comment period.

SUMMARY: EPA is extending the comment period for a proposed rule published May 11, 2005 (70 FR 24734). On May 11, 2005, EPA proposed to conditionally approve revisions to the prevention of significant deterioration (PSD) and nonattainment new source review (NSR) construction permit programs submitted by the Ohio Environmental Protection Agency (OEPA) on September 14, 2004. On December 31, 2002, EPA published revisions to the Federal PSD and NSR regulations in 40 CFR parts 51 and 52 (67 FR 80186). These “NSR Reform” regulatory revisions became effective on March 3, 2003, and include provisions for baseline emissions determinations, actual-to-future actual methodology, plantwide applicability limits (PALs), clean units, and pollution control projects (PCPs). EPA proposed to conditionally approve OEPA's revised rules to implement these NSR Reform provisions. In response to a May 19, 2005, request from the Natural Resources Defense Council, EPA is extending the comment period for 60 days.

DATES: The comment period is extended to August 9, 2005.

ADDRESSES: Submit comments, identified by Regional Material in EDocket (RME) ID No. R05-OAR-2004-OH-0004, to: Pamela Blakley, Chief, Air Permits Section, (AR-18J), U.S. Environmental Protection Agency, 77 West Jackson Boulevard, Chicago, Illinois 60604. Phone: (312) 886-4447. E-mail: blakley.pamela@epa.gov. Additional instructions to comment can be found in the notice of proposed rulemaking published May 11, 2005 (70 FR 24734).

FOR FURTHER INFORMATION CONTACT: Genevieve Damico, Air Permits Section (AR-18J), U.S. Environmental Protection Agency, 77 West Jackson Boulevard, Chicago, Illinois, 60604, Telephone Number: (312) 353-4761, e-mail address: damico.genevieve@epa.gov.

Dated: June 1, 2005.
Norman Niedergang,
Acting Regional Administrator, Region 5.

[FR Doc. 05-11539 Filed 6-9-05; 8:45 am]

BILLING CODE 6560-50-M